DEPARTMENT OF HOUSING AND URBAN DEVELOPMENT

[Docket No. FR-5375-N-03]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Jennifer Stomber, 2100 Second St., SW., Stop 7901, Washington, DC 20593-0001; (202) 475-5609; ENERGY: Mr. Mark Price, Department of Energy, Office of Engineering & Construction Management, MA-50, 1000 Independence Ave, SW., Washington, DC 20585: (202) 586-5422; GSA: Mr. Gordon Creed, Acting Deputy Assistant Commissioner, General Services Administration, Office of Property Disposal, 18th & F Streets, NW., Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: January 14, 2010.
Mark R. Johnston,
Deputy Assistant Secretary for Special Needs.

TITLE V, FEDERAL SURPLUS PROPERTY PROGRAM FEDERAL REGISTER REPORT FOR 01/22/2010

Suitable/Available Properties

Building

Idaho

Residence

287 Westside Rd.

Bonners Ferry ID 83805

Landholding Agency: GSA

Property Number: 54201010001

Status: Excess

GSA Number: 9-I-ID-0578-AA

Comments: 1460 sq. ft., 2-story residence, off-site use only

Land

Kansas

Sunflower Hill Club & Cottage Sites

Hwy17/Hwy400

Fall River KS 67047

Landholding Agency: GSA

Property Number: 54201010002

Status: Excess

GSA Number: 7-D-KS-0513

Comments: approx. 126 acres, right-of-way access for roads and power lines

Suitable/Available Properties

Land

Texas

Cottonwood Bay

14th St/Skyline Rd.

Grand Prairie TX

Landholding Agency: GSA

Property Number: 54201010004

Status: Surplus

GSA Number: 7-N-TX-846

Comments: 110 acres includes a 79 acre water body, primary storm water discharge basin. remediation responsibilities, subject to all institutional controls

Unsuitable Properties

Building

California

Bldgs. PM4-32, PM5-24

Naval Base

Point Mugu CA 93042

Landholding Agency: Navy

Property Number: 77201010001

Status: Unutilized

Reasons: Secured Area Floodway

Unsuitable Properties

Building

California

7 Bldgs.

Naval Base

Point Mugu CA 93042

Landholding Agency: Navy

Property Number: 77201010002

Status: Unutilized

Directions: PM71, 73, 76, 77, 160, 350, 353, 384

Reasons: Secured Area Floodway

9 Bldgs.

Naval Base

Point Mugu CA 93042

Landholding Agency: Navy

Property Number: 77201010003

Status: Unutilized

Directions: PM555, 565, 700, 704, 737, 759, 852, 853, 855

Reasons: Secured Area Floodway

4 Bldgs.

Naval Base

Point Mugu CA 93042

Landholding Agency: Navy

Property Number: 77201010004

Status: Unutilized

Directions: 240CA, 244CA, 246CA, 248CA

Reasons: Extensive deterioration Floodway Secured Area

Unsuitable Properties

Building

California

8 Bldgs.

Naval Base

Port Hueneme CA 93043

Landholding Agency: Navy

Property Number: 77201010005

Status: Unutilized

Directions: PH827, 1206, 1207, 1374, 1375, 1376, 1527, 1528

Reasons: Extensive deterioration Secured Area Floodway

District of Columbia

8 Bldgs.

U.S. Naval Observatory

Washington DC 20007

Landholding Agency: Navy

Property Number: 77201010006

Status: Excess

Directions: 58, 60, 64, 64B, 84, 90, 98, T5

Reasons: Secured Area

Unsuitable Properties

Building

New Mexico

4 Bldgs.

Los Alamos National Lab

Los Alamos NM 87545

Landholding Agency: Energy

Property Number: 41201010001

Status: Unutilized

Directions: 46-0002, 46-0075, 46-0180, 46-0194

Reasons: Secured Area

9 Bldgs.

Los Alamos National Lab

Los Alamos NM 87545

Landholding Agency: Energy

Property Number: 41201010002

Status: Unutilized

Directions: 57-0018, 57-0041, 57-0074, 57-0084, 57-0085, 57-0086, 57-0121, 57-0122, 57-0123

Reasons: Secured Area

North Carolina

Bldgs. OK1, OK2

USCG Station

Hobucken NC 28537

Landholding Agency: Coast Guard

Property Number: 88201010001

Status: Excess

Reasons: Extensive deterioration Secured Area

Unsuitable Properties

Building

North Carolina

10 Bldgs.

U.S. Coast Guard

Cape Hatteras NC

Landholding Agency: Coast Guard

Property Number: 88201010002

Status: Excess

Directions: OB2, OB4, OD1, OD2, OE1, OG1, OI1, 001, 0S1, OU1

Reasons: Secured Area Floodway

7 Bldgs.

U.S. Coast Guard

Cape Hatteras NC

Landholding Agency: Coast Guard

Property Number: 88201010003

Status: Excess

Directions: OR1, OR2, OR4, OR5, OR6, OR7, OR8

Reasons: Floodway Secured Area

10 Bldgs.

U.S. Coast Guard

Cape Hatteras NC

Landholding Agency: Coast Guard

Property Number: 88201010004

Status: Excess

Directions: OV1, OV4, OV5, OV6, OV7, OV8, OV9, OV10, OV11, OV12

Reasons: Floodway Secured Area

Unsuitable Properties

Building

North Carolina

5 Bldgs.

U.S. Coast Guard

Cape Hatteras NC

Landholding Agency: Coast Guard

Property Number: 88201010005

Status: Excess

Directions: NB1, NR1, NR2, NS1, NS2

Reasons: Secured Area Floodway

Virginia

Bldgs. VB29-VB45, VB49

Joint Expeditionary Base

Little Creek

Virginia Beach VA

Landholding Agency: Navy

Property Number: 77201010007

Status: Unutilized

Reasons: Secured Area Extensive deterioration

Bldg. 514

Joint Expeditionary Base

Little Creek

Virginia Beach VA

Landholding Agency: Navy

Property Number: 77201010008

Status: Unutilized

Reasons: Extensive deterioration Secured Area

Unsuitable Properties

Building

Virginia

Bldgs. 940, 951

Joint Expeditionary Base

Little Creek

Virginia Beach VA

Landholding Agency: Navy

Property Number: 77201010009

Status: Unutilized

Reasons: Secured Area Extensive deterioration

Washington

Bldg. 513

Naval Base

Bremerton WA

Landholding Agency: Navy

Property Number: 77201010010

Status: Excess

Reasons: Secured Area Within 2000 ft. of flammable or explosive material

Unsuitable Properties

Land

Massachusetts

5 Bog Tracts

Otis Air Natl Guard Base

Otis MA

Landholding Agency: GSA

Property Number: 54201010003

Status: Excess

GSA Number: 1-D-MA-0917

Reasons: Within airport runway clear zone

[FR Doc. 2010-964 Filed 1-21-10; 8:45 am]

BILLING CODE 4210-67-P